DEPARTMENT OF DEFENSE

Department of the Navy

[Docket ID USN-2011-0014]

Privacy Act of 1974; System of Records

AGENCY: Department of the Navy, Department of Defense (DoD).

ACTION: Notice to Add a New System of Records.

SUMMARY: The Department of the Navy proposes to add a new system of records to its inventory of record systems subject to the Privacy Act of 1974 (5 U.S.C. 552a), as amended.

DATES: The changes will be effective on September 12, 2011 unless comments are received that would result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, FOIA/Privacy Act Policy Branch, Acting, the Department of the Navy, 2000 Navy Pentagon, Washington, DC 20350-2000, or by phone at (202) 685-6545.

SUPPLEMENTARY INFORMATION: The Department of the Navy systems of records notice subject to the Privacy Act of 1974, (5 U.S.C. 552a), as amended, has been published in the Federal Register and is available from the address in FOR FURTHER INFORMATION CONTACT.

The proposed systems reports, as required by 5 U.S.C. 552a(r) of the Privacy Act of 1974, as amended, were submitted on August 5, 2011, to the House Committee on Government Report, the Senate Committee on Homeland Security and Governmental Affairs, and the Office of Management and Budget (OMB) pursuant to paragraph 4c of Appendix I to OMB Circular No. A-130, “Federal Agency Responsibilities for Maintaining records About Individual,” dated February 8, 1996 (February 20, 1996, 61 FR 6427).

Dated: August 5, 2011.
Aaron Siegel,
Alternate OSD Federal Register Liaison Officer, Department of Defense.

NM03760-5

System name:

DON Military Flight Operations Quality Assurance

System location:

Primary databases (Enterprise Level Servers) are maintained at the Naval Air Systems Command (PMA-209), 47014 Hinkle Circle, Bldg. 420A, Patuxent River, MD 20670.

Secondary databases (COOP) are maintained at 46610 Expedition Drive, Suite 201, Lexington Park, MD 20653.

Local databases (Site Level Servers) are maintained at Navy and Marine Corps aviation activities and select ships. Official mailing addresses are published in the Standard Navy Distribution List.

Categories of individuals covered by the system:

All aeronautically designated commissioned Navy and Marine Corps officers and enlisted members assigned as aircrew members in the operation of an aircraft.

Categories of records in the system:

Name, last four of Social Security Number (SSN), squadron ID; reports of each flight; unique system ID; age and gender (if available); and Common Access Card (CAC) Electronic Data Interchange Personal Identifier (EDIPI) (DoD ID Number). The system will contain “last four of SSN” for older records but the Social Security Number (SSN) will no longer be collected/solicited and will be phased out of the system as they meet their retention dates.

Authority for maintenance of the system:

10 U.S.C. 5013, Secretary of the Navy; 10 U.S.C. 5041, Headquarters, Marine Corps; USD-P&R and USD-ATL MFOQA Directive Type Memorandum, Process Implementation memo, October 11, 2005; and E.O. 9397 (SSN), as amended.

Purpose(s):

To track pilot and aircrew performance during flights in order to preemptively identify hazards before they lead to mishaps; and provide timely, tangible information on aircrew and system performance for each aircraft flight to prevent mishaps and improve operational readiness.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' that appear at the beginning of the Navy's compilation of systems of records notices apply to this system.

Policies and practices for storing, retrieving, accessing, retaining, and disposing of records in the system:

Storage:

Electronic storage media.

Retrievability:

Unique system ID.

Safeguards:

System access will be restricted by the use of access controls, Common Access Cards and encryption. Any personal data will be accessed only by users with uniquely assigned roles and permissions and a need to know.

Retention and disposal:

Personally Identifiable Information is purged from local database electronic records after 90 days. Routine Operations and Training Flights records are cut off annually in November and retired to the nearest Federal Records Center (FRC). Records are destroyed when 7 years old. Units being decommissioned retire files to FRC upon decommissioning.

System manager(s) and address:

Commander, Naval Air Systems Command (PMA-209), 47123 Buse Road, Patuxent River, MD 20670-1537.

Notification procedure:

Individuals seeking to determine whether information about themselves that is contained in this system should query the data base at the installation where assigned or address written inquiries to the Commander, Naval Air Systems Command (PMA-209), 47123 Buse Road, Patuxent River, MD 20670-1537.

The signed written request should contain the individual's full name and unique system ID.

The system manager may require an original signature or a notarized signature as a means of proving the identity of the individual requesting access to the records.

Record access procedures:

Individuals seeking access to information about themselves is contained in this system should query the data base at the installation where assigned or address written inquiries to the Commander, Naval Air Systems Command (PMA-209), 47123 Buse Road, Patuxent River, MD 20670-0000.

The signed written request should contain the individual's full name and unique system ID.

The system manager may require an original signature or a notarized signature as a means of proving the identity of the individual requesting access to the records.

Contesting record procedures:

The Navy's rules for accessing records, and for contesting contents and appealing initial agency determinations are published in Secretary of the Navy Instruction 5211.5; 32 CFR part 701; or may be obtained from the system manager.

Record source categories:

Individual and command supported aircrew information systems.

Exemptions claimed for the system:

None.

[FR Doc. 2011-20362 Filed 8-10-11; 8:45 am]

BILLING CODE 5001-06-P